SMALL BUSINESS ADMINISTRATION

Global Environment Strategic Technology Partners, L.P. (Applicant No. 99000410); Notice Seeking Exemption Under Section 312 of the Small Business Investment Act, Conflicts of Interest

Notice is hereby given that Global Environment Strategic Technology Partners, L.P., 1225 Eye Street, NW., Suite 900 Washington DC 20005, an applicant for a Federal License under the Small Business Investment Act of 1958, as amended (“the Act”), in connection with the financing of a small concern, has sought an exemption under section 312 of the Act and section 107.730, Financings which Constitute Conflicts of Interest of the Small Business Administration (“SBA”) rules and regulations (13 CFR 107.730 (2000)). Global Environment Strategic Technology Partners, L.P., proposes to provide equity financing to Athena Technologies, Inc., 9950 Wakeman Drive Manassas Virginia 20110. The financing is contemplated for research and development.

The financing is brought within the purview of Sec. 107.730(a)(1) of the Regulations because Global Environment Capital Co., LLC, an Associate of Global Environment Strategic Technology Partners, L.P., currently owns greater than 10 percent of Athena Technologies, Inc. and therefore Athena Technologies, Inc. is considered an Associate of Global Environment Strategic Technology Partners, L.P., as defined in § 107.50 of the regulations.

Notice is hereby given that any interested person may submit written comments on the transaction to the Associate Administrator for Investment, U.S. Small Business Administration, 409 Third Street, SW., Washington, DC 20416.

Dated: December 12, 2000.
Don A. Christensen,
Associate Administrator for Investment.

[FR Doc. 00-32626 Filed 12-21-00; 8:45 am]

BILLING CODE 8025-01-P